DEPARTMENT OF HOUSING AND URBAN DEVELOPMENT

[Docket No. FR-7062-N-11]

Privacy Act of 1974; System of Records

AGENCY: Office of Chief Financial Officer, HUD.

ACTION: Notice of a modified system of records.

SUMMARY: HUDCAPS is HUD's subsidiary ledger system, and provides the capability of capturing, recording, and summarizing HUD's financial results of operations across all business areas. Under the Privacy Act of 1974, the Department of Housing and Urban Development, the Office of the Chief Financial Officer proposes to update the system of records titled, “HUD HUDCAPS CFO/FY.05.” This system of records allows the Department of Housing and Urban Development OCFO's HUDCAPS to collect and maintain records on PIH Section 8 recipients and grantees for the Section 8 Voucher program.

DATES: Comments will be accepted on or before September 16, 2022. The SORN becomes effective immediately, while the routine uses become effective after the comment period.

ADDRESSES: You may submit comments, identified by docket number by one of these methods:

Federal e-Rulemaking Portal: http://www.regulations.gov. Follow the instructions provided on that site to submit comments electronically.

Fax: 202-619-8365.

Email: www.privacy@hud.gov.

Mail: Attention: Privacy Office; Ladonne L. White; The Executive Secretariat; 451 Seventh Street SW, Room 10139; Washington, DC 20410.

Instructions: All submissions received must include the agency name and docket number for this rulemaking. All comments received will be posted without change to http://www.regulations.gov. including any personal information provided.

Docket: For access to the docket to read background documents or comments received go to http://www.regulations.gov.

FOR FURTHER INFORMATION CONTACT: LaDonne White; 451 Seventh Street SW, Room 10139; Washington, DC 20410; telephone number 202-708-3054 (this is not a toll-free number). Individuals hearing- or speech-impaired may access this telephone number via TTY by calling the Federal Relay Service at 800-877-8339 (this is a toll-free number).

SUPPLEMENTARY INFORMATION: The following are amended from the SORN—

• Authority for Maintenance of the System: Replace “Sec. 113 of the Budget and Accounting Act of 1951 (31 U.S.C.66a)” with “31 U.S.C. 3511”

• Remove instances of Program Accounting System (PAS) because it has been decommissioned.

• Updated Categories of Individuals Covered by System.

• Updated Policies and Practices for Retention and Disposal of Records.

• Routine uses previously included by reference are not explicitly listed in the SORN. This change adds no new routine uses, but merely reorganizes them. The routine uses included by reference to HUD's Appendix I are now explicitly listed.

SYSTEM NAME AND NUMBER:

HUD Central Accounting and Program System (HUDCAPS, A75).

SECURITY CLASSIFICATION:

Unclassified.

SYSTEM LOCATION:

HUD Headquarters, 451 7th Street, SW, Washington, DC 20410-1001 and National Center for Critical Information Processing and Storage (NCCIPS), Stennis Space Center, MS 39529. The backup data center is at Mid-Atlantic Data Center in Clarksville, VA 23927.

SYSTEM MANAGER(S):

Assistant Chief Financial Officer for Systems, Office of the Chief Financial Officer, Department of Housing and Urban Development, 451 Seventh Street SW, Room 3100, Washington, DC 20410.

AUTHORITY FOR MAINTENANCE OF THE SYSTEM:

31 U.S.C. 3511 The Chief Financial Officers Act of 1990 (31 U.S.C. 901, et seq.) Executive Order 9397, as amended by Executive Order 13478 Housing and Community Development Act of 1987, 42 U.S.C. 3543.

PURPOSES OF THE SYSTEM:

A75 HUDCAPS is an Office of the Chief Financial Officer (OCFO) system that serves as a sub-ledger financial system for HUD.

HUDCAPS provides the capability of capturing, recording, and summarizing HUD's financial results of operations across all business areas.

CATEGORIES OF INDIVIDUALS COVERED BY THE SYSTEM:

PIH Section 8 recipients and grantees.

CATEGORIES OF RECORDS IN THE SYSTEM:

Records collected and/or stored in HUDCAPS includes grantee/recipient name, Business Tax-ID (can be EIN, SSN, and/or TIN), Business address, Data Universal Numbering System (DUNS), business banking account and routing numbers, and financial data.

RECORD SOURCE CATEGORIES:

PIH Section 8 recipients/grantees provide data to the Ft. Worth Accounting Center to enter into HUDCAPS.

ROUTINE USES OF RECORDS MAINTAINED IN THE SYSTEM, INCLUDING CATEGORIES OF USERS AND PURPOSES OF SUCH USES:

(A) To a congressional office from the record of an individual, in response to an inquiry from the congressional office made at the request of that individual.

(B) To appropriate agencies, entities, and persons when: (I) HUD suspects or has confirmed that there has been a breach of the system of records; (II) HUD has determined that as a result of the suspected or confirmed breach there is a risk of harm to individuals, HUD (including its information systems, programs, and operations), the Federal Government, or national security; and (III) The disclosure made to such agencies, entities, and persons is reasonably necessary to assist in connection with HUD's efforts to respond to the suspected or confirmed breach or to prevent, minimize, or remedy such harm.

(C) To another Federal agency or Federal entity, when HUD determines that information from this system of records is reasonably necessary to assist the recipient agency or entity in (I) responding to a suspected or confirmed breach or (II) preventing, minimizing, or remedying the risk of harm to individuals, the recipient agency or entity (including its information systems, programs and operations), the Federal Government, or national security, resulting from a suspected or confirmed breach.

(D) To a court, magistrate, administrative tribunal, or arbitrator in the course of presenting evidence, including disclosures to opposing counsel or witnesses in the course of civil discovery, litigation, mediation, or settlement negotiations; or in connection with criminal law proceedings; when HUD determines that use of such records is relevant and necessary to the litigation and when any of the following is a party to the litigation or have an interest in such litigation: (1) HUD, or any component thereof; or (2) any HUD employee in his or her official capacity; or (3) any HUD employee in his or her individual capacity where HUD has agreed to represent the employee; or (4) the United States, or any agency thereof, where HUD determines that litigation is likely to affect HUD or any of its components.

(E) To any component of the Department of Justice or other Federal agency conducting litigation or in proceedings before any court, adjudicative, or administrative body, when HUD determines that the use of such records is relevant and necessary to the litigation and when any of the following is a party to the litigation or have an interest in such litigation: (1) HUD, or any component thereof; or (2) any HUD employee in his or her official capacity; or (3) any HUD employee in his or her individual capacity where the Department of Justice or agency conducting the litigation has agreed to represent the employee; or (4) the United States, or any agency thereof, where HUD determines that litigation is likely to affect HUD or any of its components.

(G) To appropriate Federal, State, local, tribal, or other governmental agencies or multilateral governmental organizations responsible for investigating or prosecuting the violations of, or for enforcing or implementing, a statute, rule, regulation, order, or license, where HUD determines that the information would assist in the enforcement of civil or criminal laws when such records, either alone or in conjunction with other information, indicate a violation or potential violation of law.

(F) To Federal agencies, non-Federal entities, their employees, and agents (including contractors, their agents or employees; employees or contractors of the agents or designated agents); or contractors, their employees or agents with whom HUD has a contract, service agreement, grant, cooperative agreement, or computer matching agreement for the purpose of: (I) Detection, prevention, and recovery of improper payments; (II) detection and prevention of fraud, waste, and abuse in major Federal programs administered by a Federal agency or non-Federal entity; (III) for the purpose of establishing or verifying the eligibility of, or continuing compliance with statutory and regulatory requirements by, applicants for, recipients or beneficiaries of, participants in, or providers of services with respect to, cash or in-kind assistance or payments under Federal benefits programs or recouping payments or delinquent debts under such Federal benefits programs; (IV) detection of fraud, waste, and abuse by individuals in their operations and programs. Records under this routine use may be disclosed only to the extent that the information shared is necessary and relevant to verify pre-award and prepayment requirements prior to the release of Federal funds or to prevent and recover improper payments for services rendered under programs of HUD or of those Federal agencies and non-Federal entities to which HUD provides information under this routine use.

(G) To contractors, grantees, experts, consultants, Federal agencies, and non-Federal entities, including, but not limited to, State and local governments and other research institutions or their parties, and entities and their agents with whom HUD has a contract, service agreement, grant, cooperative agreement, or other agreement for the purposes of statistical analysis and research in support of program operations, management, performance monitoring, evaluation, risk management, and policy development, or to otherwise support the Department's mission. Records under this routine use may not be used in whole or in part to make decisions that affect the rights, benefits, or privileges of specific individuals. The results of the matched information may not be disclosed in identifiable form.

(H) To contractors, grantees, experts, consultants and their agents, or others performing or working under a contract, service, grant, or cooperative agreement with HUD, when necessary to accomplish an agency function related to a system of records. Disclosure requirements are limited to only those data elements considered relevant to accomplishing an agency function.

POLICIES AND PRACTICES FOR STORAGE OF RECORDS:

Records are maintained in Electronic and paper formats

POLICIES AND PRACTICES FOR RETRIEVAL OF RECORDS:

Records can be retrieved by the Business Tax ID (this is called the Vendor ID in the system, and it can be the SSN/TIN/EIN depending on the grantee).

POLICIES AND PRACTICES FOR RETENTION AND DISPOSAL OF RECORDS:

Destroy 6 years after final payment or cancellation, but longer retention is authorized if required for business use.

ADMINISTRATIVE, TECHNICAL, AND PHYSICAL SAFEGUARDS:

All HUD employees have undergone background investigations. HUD buildings are guarded and monitored by security personnel, cameras, ID checks, and other physical security measures. Access is restricted to authorized personnel or contractors whose responsibilities require access. System users must take the mandatory security awareness training annually as mandated by the Federal Information Security Management Act (FISMA). Users must also sign a Rules of Behavior form certifying that they agree to comply with the requirements before they are granted access to the system. HUDCAPS resides on the P207 IBM Mainframe general support system, which is at NASA's Stennis Space Center. The physical security controls for P207 IBM Mainframe is the responsibility of OCIO. OCIO handles the backups and encryption of backups on the P207 IBM Mainframe. OCIO is also responsible for the mainframe/LAN-based security controls (e.g., VPN, encryption of data in transit, IDS). All users authenticate to the HUD LAN with PIV cards before they can access HUDCAPS. OCFO limits access to records that contain PII data on a need to know basis, user recertification is performed, audit logs are reviewed, security assessments are performed, and background checks are performed prior to granting access. Not all employees and contractors have access to the vendor table that includes the PII. Updates to HUDCAPS vendor data is limited to those with specific roles.

RECORD ACCESS PROCEDURES:

Individuals seeking notification of and access to their records in this system of records may submit a request in writing to the Department of Housing and Urban Development, Attn: FOIA Program Office, 451 7th Street SW, Suite 10139, Washington, DC 20410-0001. or by emailing foia@hud.gov. Individuals must furnish the following information for their records to be located:

1. Full name.

2. Signature.

3. The reason why the individual believes this system contains information about him/her.

4. The address to which the information should be sent.

NOTIFICATION PROCEDURES:

Any person wanting to know whether this system of records contains information about him or her should contact the System Manager. Such person should provide his or her full name, position title and office location at the time the accommodation was requested, and a mailing address to which a response is to be sent.

CONTESTING RECORD PROCEDURES:

Same as the Notification Procedures above.

EXEMPTIONS PROMULGATED FOR THE SYSTEM:

None.

HISTORY:

Docket No. FR-7009-N-04; 83 FR 11240 (March 14, 2018).

LaDonne White,
Chief Privacy Officer, Office of Administration.

[FR Doc. 2022-17709 Filed 8-16-22; 8:45 am]

BILLING CODE 4210-67-P